DEPARTMENT OF AGRICULTURE

Forest Service

DEPARTMENT OF THE INTERIOR

Fish and Wildlife Service

[FWS-R7-SM-2021-N200; FF07J00000 FXRS12610700000 212]

Alaska Subsistence Regional Advisory Council Meetings for 2022

AGENCY: Fish and Wildlife Service, Interior.

ACTION: Notice of meetings.

SUMMARY: The Federal Subsistence Board (Board) announces the public meetings of the 10 Alaska Subsistence Regional Advisory Councils (hereafter, Councils) for the winter and fall cycles of 2022. The 10 Councils each meet approximately twice a year to provide advice and recommendations to the Board about subsistence hunting and fishing issues on Federal public lands in Alaska.

DATES: Winter 2022 Meetings: The Alaska Subsistence Councils will meet via teleconference between February 8, 2022, and March 24, 2022, as shown in Table 1. For more information about accessing the meetings, visit the Councils' website at https://www.doi.gov/subsistence/regions.

Table 1—Winter 2022 Meetings of the Alaska Subsistence Councils
Regional advisory council | Dates
Southeast AK—Region 1 | March 22-24.
Southcentral AK—Region 2 | February 10-11.
Kodiak/Aleutians—Region 3 | February 22-23.
Bristol Bay—Region 4 | February 8-9.
Yukon-Kuskokwim Delta—Region 5 | March 1-2.
Western Interior—Region 6 | February 16-17.
Seward Peninsula—Region 7 | March 3-4.
Northwest Arctic—Region 8 | February 14-15.
Eastern Interior—Region 9 | March 8-9.
North Slope—Region 10 | March 8-9.
Joint Southcentral AK—Region 2 and Eastern Interior—Region 9 | March 16.

Fall 2022 Meetings: The Alaska Subsistence Councils will meet between September 20, 2022, and November 2, 2022, as shown in Table 2. A teleconference will substitute for an in-person meeting if public health or safety restrictions are in effect. To determine whether the meetings will be held via teleconference or in-person, visit the Councils' website at https://www.doi.gov/subsistence/regions.

Table 2—Fall 2022 Meetings of the Alaska Subsistence Councils
Regional advisory council | Dates | Location (if in-person)
Southeast AK—Region 1 | October 25-27 | TBD.
Southcentral AK—Region 2 | October 13-14 | TBD.
Kodiak/Aleutians—Region 3 | September 20-21 | Cold Bay.
Bristol Bay—Region 4 | November 1-2 | Dillingham.
Yukon-Kuskokwim Delta—Region 5 | October 27-28 | TBD.
Western Interior—Region 6 | October 19-20 | Fairbanks.
Seward Peninsula—Region 7 | October 4-5 | Nome.
Northwest Arctic—Region 8 | October 31-November 1 | Kotzebue.
Eastern Interior—Region 9 | October 5-6 | Fort Yukon.
North Slope—Region 10 | October 13-14 | TBD.

The meetings are open to the public. For more information see FOR FURTHER INFORMATION CONTACT, below.

ADDRESSES: Specific information about meeting locations and the final agendas can be found on the Federal Subsistence Management Program website at: https://www.doi.gov/subsistence/regions.

FOR FURTHER INFORMATION CONTACT: Chair, Federal Subsistence Board, c/o U.S. Fish and Wildlife Service, Attention: Sue Detwiler, Assistant Regional Director, Office of Subsistence Management; (907) 786-3888 or subsistence@fws.gov. For questions specific to National Forest System lands, contact Gregory Risdahl, Subsistence Program Leader, (907) 302-7354 or gregory.risdahl@usda.gov.

Reasonable Accommodations: The Federal Subsistence Board is committed to providing access to these meetings for all participants. Please direct all requests for sign language interpreting services, closed captioning, or other accommodation needs to Katerina Wessels, (907) 786-3885, katerina_wessels@fws.gov, or 800-877-8339 (TTY), 7 business days prior to the meeting you would like to attend.

SUPPLEMENTARY INFORMATION: The Federal Subsistence Board announces the 2022 public meeting schedule for the 10 Alaska Subsistence Regional Advisory Councils, in accordance with the Federal Advisory Committee Act (5 U.S.C. Appendix 2). Established in 1993, the Councils are statutory Federal advisory committees that provide a public forum for their regions and recommendations to the Federal Subsistence Board about subsistence hunting, trapping, and fishing issues on Federal public lands in Alaska, as authorized by section 805 of the Alaska National Interest Lands Conservation Act (ANILCA; 16 U.S.C. 3111-3126).

The Councils are a crucial link between federally qualified subsistence users and the Federal Subsistence Board. The Board is a multi-agency body with representation from a Chair and two public members who are appointed by the Secretary of the Interior with concurrence of the Secretary of Agriculture, and representatives of the U.S. Fish and Wildlife Service, National Park Service, Bureau of Land Management, Bureau of Indian Affairs, and the USDA-Forest Service.

Each Council meets approximately two times per calendar year, once in the winter and once in the fall, to attend to business and develop proposals and recommendations to the Board.

Meeting Agendas

Winter Meetings

• General Council business: Review and adopt agenda; election of officers; review and approve previous meeting minutes; Council Chair and members reports; public and Tribal comments on non-agenda items.

• Briefing and Council comments on proposed actions to automate Federal subsistence permits.

• Develop proposals and accept public comment to change subsistence take of fish and shellfish regulations.

• Briefing on the Secretarial regulations proposing the inclusion of identified submerged lands in the Tongass National Forest.

• Review and approve Annual Report.

• Agency reports.

• Future meeting dates.

Fall Meetings

• General Council business: Review and adopt agenda; review and approve previous meeting minutes; Council Chair and members reports; public and Tribal comments on non-agenda items.

• Prepare recommendations and accept public comments on proposals to change subsistence take of fish and shellfish regulations.

• Define issues for upcoming Annual Report.

• Develop priority information needs for the Fisheries Resource Monitoring Program.

• Agency reports.

• Future meeting dates.

A notice will be published of specific dates, times, and meeting locations in local and statewide newspapers prior to both series of meetings; in addition, announcements will be made on local radio stations and posted on social media and the Federal Subsistence Management Program website. Locations and dates may change based on weather or local circumstances. A teleconference will substitute for an in-person meeting if public health or safety restrictions are in effect. The final draft agendas, call-in numbers, how to participate and provide public comments, and other related meeting information will be posted on the Federal Subsistence Management Program website at https://www.doi.gov/subsistence/regions and on social media at https://www.facebook.com/subsistencealaska/. Transcripts of the meetings are maintained by the Program and will be available for public inspection within 14 days after each meeting at https://www.doi.gov/subsistence/regions.

Public Disclosure of Comments: Time will be allowed for any individual or organization wishing to present oral or written comments. If you are not available to submit your comments, you may have a second party present your comments on your behalf. Any written comments received will be presented to the Council members by staff.

Before including your address, phone number, email address, or other personal identifying information in your comment, you should be aware that your entire comment—including your personal identifying information—may be made publicly available at any time. While you can ask us in your comment to withhold your personal identifying information from public review, we cannot guarantee that we will be able to do so.

Authority

5 U.S.C. Appendix.

Sue Detwiler,
Assistant Regional Director, U.S. Fish and Wildlife Service.
Gregory Risdahl,
Subsistence Program Leader, USDA-Forest Service.

[FR Doc. 2021-26885 Filed 12-13-21; 8:45 am]

BILLING CODE 4333-15-P; 3411-15-P